DEPARTMENT OF ENERGY

Federal Energy Regulatory Commission

[ Project No. 349-150]

Alabama Power Company (Alabama Power); Notice of Application Tendered for Filing With the Commission and Establishing Procedural Schedule for Licensing and Deadline for Submission of Final Amendments

Take notice that the following hydroelectric application has been filed with the Commission and is available for public inspection.

a. Type of Application: New Major License.

b. Project No.: 349-150.

c. Date Filed: June 8, 2011.

d. Applicant: Alabama Power Company (Alabama Power).

e. Name of Project: Martin Dam Hydroelectric Project.

f. Location: The existing Martin Dam Project is located on the Tallapoosa River in northeast Alabama, in Tallapoosa, Coosa, and Elmore Counties, Alabama, near the cities of Alexander City and Dadeville, Alabama. The project would occupy 1.36 acres of Federal lands.

g. Filed Pursuant to: Federal Power Act, 16 U.S.C. 791(a)-825(r).

h. Applicant Contact: Theodore J. McCullough, Senior Vice President and Senior Production Officer, Alabama Power Company, 600 North 18th Street, P.O. Box 2641, Birmingham, AL 35291, telephone (205) 257-8180; James F. Crew, Manager, Hydro Services, Alabama Power Company, 600 North 18th Street, P.O. Box 2641, Birmingham, AL 35291, telephone (205) 257-4265.

i. FERC Contact: Jennifer Adams, (202) 502-8087 or jennifer.adams@ferc.gov.

j. This application is not ready for environmental analysis at this time.

k. The Project Description: Martin Dam is located at river mile 420.0 on the Tallapoosa River near the cities of Alexander City and Dadeville, Alabama. Martin Dam impounds about 31 miles of the Tallapoosa River, forming Martin Reservoir (or Lake Martin), a 40,000-acre reservoir with (a) 700 miles of shoreline, (b) a gross storage capacity of 1,622,000 acre-feet, and (c) active storage of 1,381,077 acre-feet at a 45.5-foot drawdown.

The existing Martin Dam Project consists of: (1) A concrete gravity dam and an earth dike section, totaling about 2,000 feet in length with a maximum height of 168 feet, and includes (a) A 720-foot-long gated spillway section with 20 vertical lift spillway gates, each measuring 30 feet wide by 16 feet high; (b) a 250-foot-long concrete gravity intake structure, (c) a 255-foot-long concrete gravity non-overflow section, and (d) an approximately 1,000-foot-long earth embankment; (2) a reservoir with a surface area of 40,000 acres at the normal full pool elevation of 491 feet mean sea level (msl); (3) headworks containing four steel penstocks and 12 intake gates, each fitted with trash racks; (4) a brick and concrete, steel-frame powerhouse, 307 feet long, 58 feet wide, and 99 feet high; (5) four vertical Francis turbines that power four generating units with a total installed capacity of 182.5 MW; (6) two 450-foot-long transmission lines; and (7) appurtenant facilities. The project generates about 33,000,000 megawatt-hours (MWh) annually.

The Martin Dam Project operates as a peaking project using a multipurpose storage reservoir (Lake Martin), in which the water levels fluctuate seasonally. Under its normal peaking operations, the project operates between elevations 481 and 491 feet msl. Flows from the dam vary from leakage during periods of non-generation to 17,900 cubic feet per second (cfs) during generation. The Martin Dam Project typically generates Monday through Friday for eight hours per day. Releases from Martin Dam are made directly into Alabama Power's Yates and Thurlow Hydroelectric Project (FERC Project No. 2407). The Thurlow Dam is required to release a minimum flow of 1,200 cfs. Releases from Martin Dam are often necessary to maintain the 1,200-cfs minimum flow requirement.

Alabama Power uses three guide curves for the Martin Dam Project: (1) A flood control guide; (2) an operating guide; and (3) a drought contingency curve. The flood control guide maximizes lake elevations for flood control purposes. The operating guide limits fluctuations in Lake Martin to water levels that stakeholders deemed acceptable during the previous relicensing process for the Martin Dam Project. The area between the flood control guide and operating guide represents the range that Alabama Power operates the project under normal inflow conditions.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | August 7, 2011
Filing of recommendations, preliminary terms and conditions, and fishway prescriptions | October 6, 2011.
Commission issues Draft EIS | April 3, 2012.
Comments on Draft EIS | June 2, 2012.
Modified Terms and Conditions | August 1, 2012.
Commission Issues Final EIS | October 30, 2012.

o. Final amendments to the application must be filed with the Commission no later than 30 days from the issuance date of the Notice of Ready for Environmental Analysis.

Dated: June 15, 2011.
Kimberly D. Bose,
Secretary.

[FR Doc. 2011-15526 Filed 6-21-11; 8:45 am]

BILLING CODE 6717-01-P